DEPARTMENT OF TRANSPORTATION

Federal Highway Administration

Environmental Impact Statement: Davidson County and Forsyth County, NC

AGENCY: Federal Highway Administration (FHWA), DOT.

ACTION: Notice of intent.

SUMMARY: The FHWA is issuing this notice to advise the public that an environmental impact statement will be prepared for the proposed roadway improvements to NC 109 between Old Greensboro Road (SR 1798) in Davidson County and I-40/US 311 in Forsyth County, North Carolina.

FOR FURTHER INFORMATION CONTACT: Clarence W. Coleman, PE, Director of Preconstruction and Environment, Federal Highway Administration, 310 New Bern Avenue, Suite 410, Raleigh, North Carolina 27601-1418, Telephone: (919) 747-7014, or Vincent J. Rhea, PE, Project Engineer, North Carolina Department of Transportation, 1548 Mail Service Center, Raleigh, North Carolina 27699-1548, Telephone: (919) 733-7844, ext. 261.

SUPPLEMENTARY INFORMATION: The FHWA, in cooperation with the North Carolina Department of Transportation, will prepare an environmental impact statement (EIS) on a proposal for improving NC 109, through widening and/or constructing new roadway, between Old Greensboro Road and I-40/US 311. The project is included in the North Carolina Department of Transportation (NCDOT) 2009-2015 Transportation Improvement Program (TIP) as TIP No. R-2568C. Improvements to the section of NC 109 south of Old Greensboro Road, extending south to Business I-85 in the City of Thomasville, were completed in 2007. The current project includes one alternative mainly on existing location and four alternatives mainly on new location. The project would be constructed as a four-lane, median-divided roadway with partial control of access. Directional crossovers with offset left turns will be used at many of the major intersections. Improvements to NC 109 are considered necessary to improve traffic flow and service and to reduce conflicts between through traffic and local traffic. As required by Section 6002 of the Safe Accountable Flexible Efficient Transportation Equity Act: “A Legacy for Users”, opportunities have been provided for involvement with the public in defining the project purpose and need and determining the range of alternatives to be considered for the project. Further opportunities for the public to comment on the environmental review process will be provided throughout the remainder of the project development process.

Prior to the initiation of environmental studies in preparation of an Environmental Impact Statement (EIS), a scoping letter soliciting comments on the proposed project was sent in December 2003 to the local, state, and federal agencies by NCDOT. The agency scoping meeting for the project was held in January 2004. No further scoping actions are planned.

Since the start of the project, NCDOT has hosted two rounds of Citizens Informational Workshops. The first round was held in April 2004 to announce the start of the project and to obtain public input concerning the location of potential alternatives. The second round was held in November 2005 to present and obtain public comments on five alternative corridors identified for the project.

In 1997, the U.S. Army Corp of Engineers (USACE), FHWA, and NCDOT signed an Interagency Agreement integrating Section 404 and the National Environmental Policy Act (NEPA) of 1969, known as the Section 404/NEPA Merger Process. The agreement requires the establishment of a project team at the beginning of each transportation project and outlines the coordination process with a series of Concurrence Points in order to promote cooperation and coordination during the study process and to ensure compatibility with local, state and federal planning projects and policies. To date, project merger team meetings have been held in September 2004 and August 2006. Upon completion of the draft EIS, a public hearing will be held, with public notice of the time and place of the hearing. The draft EIS will be available for public and agency review and comment prior to the public hearing.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)

Issued on: March 12, 2009.
Clarence W. Coleman,
Director of Preconstruction & Environment, Raleigh, North Carolina.

[FR Doc. E9-5800 Filed 3-17-09; 8:45 am]

BILLING CODE 4910-22-P